DEPARTMENT OF TRANSPORTATION

Federal Aviation Administration

14 CFR Part 39

[Docket No. FAA-2020-0813; Product Identifier 2019-CE-040-AD]

RIN 2120-AA64

Airworthiness Directives; Pilatus Aircraft Limited Airplanes

AGENCY: Federal Aviation Administration (FAA), Department of Transportation (DOT).

ACTION: Notice of proposed rulemaking (NPRM).

SUMMARY: The FAA proposes to adopt a new airworthiness directive (AD) for Pilatus Aircraft Limited Model PC-12/47E airplanes. This proposed AD results from mandatory continuing airworthiness information (MCAI) originated by an aviation authority of another country to identify and correct an unsafe condition on an aviation product. The MCAI describes the unsafe condition as inboard flap fairings aft (IFFAs) having an incorrect shape, which may result in chafing between the IFFA and the associated front inboard tension rod could occur. This proposed AD would require an inspection of the IFFAs for the correct shape and chafing between the IFFA and the associated front inboard tension rod, with corrective action as necessary. This condition could lead to failure of the inboard flap drive arm with consequent asymmetric flap extension, resulting in reduced control of the airplane. The FAA is proposing this AD to address the unsafe condition on these products.

DATES: The FAA must receive comments on this proposed AD by November 2, 2020.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact Pilatus Aircraft, Ltd., Customer Support PC-12, CH-6371 Stans, Switzerland; telephone: +41 41 619 33 33; fax: +41 41 619 73 11; email: supportPC12@pilatus-aircraft.com; internet: https://www.pilatus-aircraft.com. You may review this referenced service information at the FAA, Airworthiness Products Section, Operational Safety Branch, 901 Locust, Kansas City, Missouri 64106. For information on the availability of this material at the FAA, call (816) 329-4148.

Examining the AD Docket

You may examine the AD docket on the internet at https://www.regulations.gov by searching for and locating Docket No. FAA-2020-0813; or in person at Docket Operations between 9 a.m. and 5 p.m., Monday through Friday, except Federal holidays. The AD docket contains this proposed AD, any comments received, and other information. The street address for Docket Operations is listed above. Comments will be available in the AD docket shortly after receipt.

FOR FURTHER INFORMATION CONTACT: Doug Rudolph, Aerospace Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Comments Invited

The FAA invites you to send any written relevant data, views, or arguments about this proposed AD. Send your comments to an address listed under the ADDRESSES section. Include “Docket No. FAA-2020-0813; Product Identifier 2019-CE-040-AD” at the beginning of your comments. The FAA will consider all comments received by the closing date and may amend this proposed AD because of those comments.

Except for Confidential Business Information (CBI) as described in the following paragraph, and other information as described in 14 CFR 11.35, the FAA will post all comments received, without change, to https://www.regulations.gov, including any personal information you provide. The FAA will also post a report summarizing each substantive verbal contact it receives about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aerospace Engineer, FAA, General Aviation & Rotorcraft Section, International Validation Branch, 901 Locust, Room 301, Kansas City, Missouri 64106. Any commentary that the FAA receives which is not specifically designated as CBI will be placed in the public docket for this rulemaking.

Discussion

The European Union Aviation Safety Agency (EASA), which is the Technical Agent for the Member States of the European Community, has issued AD No.: 2019-0231, dated September 13, 2019 (referred to after this as the MCAI), to correct an unsafe condition for Pilatus Aircraft, Ltd., Model PC-12/47E airplanes. The MCAI states:

On the final assembly line of PC-12/47E aeroplanes, IFFAs were detected having an incorrect shape. As a consequence, chafing between the IFFA and the associated front inboard tension rod could occur, may cause corrosion of the bare rod aluminium tube and reduce aluminium thickness.

This condition, if not detected and corrected, could lead to failure of the inboard flap drive arm with consequent asymmetric flap extension, possibly resulting in reduced control of the aeroplane.

To address this potential unsafe condition, Pilatus issued the [service bulletin] SB to provide inspection and modification instructions.

For the reason described above, this [EASA] AD requires a one-time inspection of both IFFA and, depending on findings, a follow-on inspection of the associated front inboard tension rod for chafing, and modification or replacement of affected parts.

You may examine the MCAI on the internet at https://www.regulations.gov by searching for and locating Docket No. FAA-2020-0813.

Related Service Information Under 1 CFR Part 51

Pilatus Aircraft Limited has issued Pilatus PC-12 Service Bulletin No: 27-026, dated July 10, 2019 (Pilatus SB No. 27-026). The service information specifies procedures for inspecting and correcting chafing between the left and right IFFAs and the associated front inboard tension rods. This service information is reasonably available because the interested parties have access to it through their normal course of business or by the means identified in the ADDRESSES section.

FAA's Determination and Requirements of the Proposed AD

This product has been approved by the aviation authority of another country, and is approved for operation in the United States. Pursuant to our bilateral agreement with this State of Design Authority, it has notified the FAA of the unsafe condition described in the MCAI and service information referenced above. The FAA is proposing this AD because it evaluated all information and determined the unsafe condition exists and is likely to exist or develop on other products of the same type design.

Proposed AD Requirements

This proposed AD would require accomplishing the actions specified in the service information described previously except as discussed under “Differences Between this AD and the Service Information.”

Differences Between This Proposed AD and the MCAI

Pilatus SB No. 27-026 only requires inspection of airplanes that were potentially manufactured with the IFFAs that have the incorrect shape and requires inspection of the tension rods if the IFFAs are modified because they have been found to have the incorrect shape. Due to the length of time between manufacture and this proposed AD, operators having multiple Model PC-12/47E airplanes could have installed defective parts, either the IFFAs or affected tension rods, from one airplane into an airplane that was not manufactured with the defective part. Therefore, this proposed AD would require inspection of the IFFAs for correct shape, verification of proper clearance with the tension rods, and inspection for chafing damage on the tension rods on all Model PC-12/47E airplanes.

Costs of Compliance

The FAA estimates that this proposed AD would affect 18 products of U.S. registry. The FAA also estimates that it would take about 2.5 work-hours per product to comply with the requirements of this proposed AD. The average labor rate is $85 per work-hour. Required parts would cost about $1,600 per product.

Based on these figures, the FAA estimates the cost of the proposed AD on U.S. operators would be $32,634 or $1,813 per product.

According to the manufacturer, all or some of the costs of this proposed AD may be covered under warranty, thereby reducing the cost impact on affected individuals. The FAA does not control warranty coverage for affected individuals. As a result, the FAA included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a significant regulatory action under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pilatus Aircraft Limited: Docket No. FAA-2020-0813; Product Identifier 2019-CE-040-AD.

(a) Comments Due Date

The FAA must receive comments by November 2, 2020.

(b) Affected ADs

None.

(c) Applicability

This AD applies to Pilatus Aircraft Limited Model PC-12/47E airplanes, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as inboard flap fairings aft (IFFAs) having an incorrect shape, which could lead to chafing between the IFFA and the front inboard tension rod, and consequently corrosion of the bare rod aluminum tube and reduced aluminum thickness. This condition, if not corrected, could lead to failure of the inboard flap drive arm, asymmetric flap extension, and reduced control of the airplane.

(f) Actions and Compliance

(1) Unless already done, within 100 hours time-in-service (TIS) after the effective date of this AD or within 6 months after the effective date of this AD, whichever occurs first, inspect the left-hand (LH) and right-hand (RH) IFFAs for correct shape and clearance with the LH and RH tension rods by following step 3.B.(1) and Figures 2 and 3 of the Accomplishment Instructions—Aircraft in Pilatus PC-12 Service Bulletin No: 27-026, dated July 10, 2019 (Pilatus SB 27-026).

(i) If the shape of the LH or RH IFFA is incorrect or if the clearance between the IFFA and the tension rod is less than 5 mm (0.2 inch), before further flight, modify the IFFA and inspect the tension rods for chafing by following section 3.C. of the Accomplishment Instructions—Aircraft in Pilatus SB 27-026.

(ii) If the shape of the LH and RH IFFAs is correct and the clearance between the IFFA and the tension rod is at least 5 mm (0.2 inch), before further flight, inspect the front inboard LH and RH tension rods for chafing by following step 3.C.(12)(a) of the Accomplishment Instructions—Aircraft in Pilatus SB 27-026. If the LH or RH tension rod has any chafing, before further flight, replace the tension rod by following step 3.C.(12)(b) of the Accomplishment Instructions—Aircraft in Pilatus SB 27-026.

(2) As of the effective date of this AD, do not install on any airplane a LH IFFA part number (P/N) 557.52.12.223, RH IFFA P/N 557.52.12.224, or tension rod P/N 527.52.12.135 unless the part has been inspected and all corrective actions have been taken as required by this AD.

(g) Alternative Methods of Compliance (AMOCs):

The Manager, International Validation Branch, FAA, has the authority to approve AMOCs for this AD if requested using the procedures found in 14 CFR 39.19. Send information to ATTN: Doug Rudolph, Aerospace Engineer, FAA, General Aviation & Rotorcraft Section, International Validation Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(h) Related Information

(1) Refer to MCAI European Union Aviation Safety Agency AD No. 2019-0231, dated September 13, 2019, for related information. You may examine the MCAI on the internet at https://www.regulations.gov by searching for and locating Docket No. FAA-2020-0813.

(2) For service information related to this AD, contact Pilatus Aircraft, Ltd., Customer Support PC-12, CH-6371 Stans, Switzerland; telephone: +41 41 619 33 33; fax: +41 41 619 73 11; email: supportPC12@pilatus-aircraft.com; internet: https://www.pilatus-aircraft.com. You may review this referenced service information at the FAA, Airworthiness Products Section, Operational Safety Branch, 901 Locust, Kansas City, Missouri 64106. For information on the availability of this material at the FAA, call (816) 329-4148.

Issued on September 9, 2020.
Lance T. Gant,
Director, Compliance & Airworthiness Division, Aircraft Certification Service.

[FR Doc. 2020-20310 Filed 9-15-20; 8:45 am]

BILLING CODE 4910-13-P